DEPARTMENT OF DEFENSE

Department of the Army, Corps of Engineers

Intent To Prepare an Environmental Impact Statement for the Port of Long Beach Deep Draft Navigation Project, Los Angeles County, CA

AGENCY: Department of the Army, U.S. Army Corps of Engineers, DOD.

ACTION: Notice of Intent.

SUMMARY: The Los Angeles District intends to prepare an Environmental Impact Statement (EIS) to support a cost-shared feasibility study with the Port of Long Beach, California, for navigation improvements to existing navigation channels within the Port. The purpose of the feasibility study is to provide safe, reliable, and efficient waterborne transportation improvements to the Port of Long Beach. The EIS will analyze potential impacts of the recommended plan and a range of alternatives for navigation improvements. Alternatives will include both structural and non-structural measures.

ADDRESSES: You may submit your concerns in writing to the Los Angeles District at the address below. Comments, suggestions, and requests to be placed on the mailing list for announcements should be sent to Larry Smith, U.S. Army Corps of Engineers, Los Angeles District, 915 Wilshire Boulevard, Suite 930, Los Angeles, CA 90017-3401, or email to lawrence.j.smith@usace.army.mil.

FOR FURTHER INFORMATION CONTACT: For further information contact Mr. Larry Smith, Project Environmental Coordinator, (213) 452-3846.

SUPPLEMENTARY INFORMATION: Authorization: Resolution of the Senate Committee on Public Works adopted 11 May 1967 and the Resolution of the House Committee on Public Works adopted 10 July 1968. The Army Corps of Engineers intends to prepare an EIS to assess the environmental effects associated with proposed navigation improvements measures in the study area.

Study Area: The Port of Long Beach is on the coast of southern California in San Pedro Bay, approximately 20 miles south of downtown Los Angeles, California. The communities of San Pedro and Wilmington are to the west and northwest of San Pedro Bay, respectively, and to the northeast the city of Long Beach. The study area includes the waters in the immediate vicinity (and shoreward) of the breakwaters through the entire Port of Long Beach and the downstream reaches of the Los Angeles River that have direct impact on the Bay, including Outer Harbor, Inner Harbor, Cerritos Channel, West Basin, and the Back Channel.

Problems and Needs: The primary problem is the inefficient operation of deep draft vessels in secondary channels, which increases the Nation's transportation costs. This study will address inefficiencies to container movements only. The following problem statements summarize these inefficiencies.

(1) Due to depth limitations along channels accessing the Port's container terminals, existing container vessels cannot load to their maximum draft, which is causing light-loading of vessels at the point of origin and delays to an increasing number of containerships.

(2) The dimensions of the world-wide fleet of container vessels have increased significantly, and it is anticipated that this trend will continue into the future. Delays and light-loading due to container vessel draft limits will increase as new, larger vessels are added to the fleet.

(3) There are diminished recreation opportunities and environmental degradation in coastal areas outside of the study area.

Proposed Action and Alternatives: The Los Angeles District will investigate and evaluate all reasonable alternatives to address the problems and needs identified above. In addition to the NO ACTION alternative, both structural (deepen the secondary access channel to Pier J, deepen the secondary access channel to Pier T West Basin, construct a turning basin in the secondary access channel to Pier J, construct a turning basin in the secondary access channel to Pier T West Basin, deepen the approach channel, or deepen the anchorage along the main channel, beneficial use of dredged material for recreation or ecosystem restoration) and non-structural (high tide riding, light loading, and vessel re-routing) measures will be investigated.

Previous Actions: Port of Long Beach Main Channel Deepening Project, Pier T Marine Terminal, Middle Harbor Redevelopment.

Scoping: The scoping process is ongoing and has involved preliminary coordination with Federal, State, and local agencies. A public scoping meeting is scheduled on 19 January 2016, from 2:00 to 4:00 p.m. at the Port of Long Beach Harbor Department Interim Administrative Offices; 4801 Airport Plaza Drive, Long Beach, California. The public will have an opportunity to express opinions and raise any issues relating to the scope of the Feasibility Study and the EIS. The public as well as Federal, State, and local agencies are encouraged to participate by submitting data, information, and comments identifying relevant environmental and socioeconomic issues to be addressed in the study. Useful information includes other environmental studies, published and unpublished data, alternatives that could be addressed in the analysis, and potential mitigation measures associated with the proposed action. All comments enter into the public record.

Availability of the Draft EIS: The Draft EIS is scheduled to be published and circulated in late 2016, and a public hearing to receive comments on the Draft EIS will be held after it is published.

Dated: December 29, 2015.
Dennis P. Sugrue,
Lieutenant Colonel, U.S. Army, Acting Commander and Acting District Engineer.

[FR Doc. 2015-33166 Filed 1-4-16; 8:45 am]

BILLING CODE 3720-58-P